ENVIRONMENTAL PROTECTION AGENCY

[EPA-HQ-OPP-2011-0001; FRL-8870-2]

SFIREG POM Working Committee; Notice of Public Meeting

AGENCY: Environmental Protection Agency (EPA).

ACTION: Notice.

SUMMARY: The Association of American Pesticide Control Officials (AAPCO)/State FIFRA Issues Research and Evaluation Group (SFIREG), Pesticide Operations and Management (POM) Working Committee will hold a 2-day meeting, beginning on May 16, 2011 and ending May 17, 2011. This notice announces the location and times for the meeting and sets forth the tentative agenda topics.

DATES: The meeting will be held on Monday, May 16, 2011 from 8:30 a.m. to 5 p.m. and 8:30 a.m. to 12 noon on Tuesday May 17, 2011.

To request accommodation of a disability, please contact the person listed under FOR FURTHER INFORMATON CONTACT, preferably at least 10 days prior to the meeting, to give EPA as much time as possible to process your request.

ADDRESSES: The meeting will be held at The Edgewater Hotel, 2411 Alaskan Way, Pier 67, Seattle, WA. This meeting will be held in the Rainier Room.

FOR FURTHER INFORMATION CONTACT: Ron Kendall, Field External Affairs Division, Office of Pesticide Programs, Environmental Protection Agency, 1200 Pennsylvania Ave., NW., Washington, DC 20460-0001; telephone number: (703) 305-5561; e-mail address: kendall.ron@epa.gov or Grier Stayton, SFIREG Executive Secretary, P.O. Box 466, Milford, DE 19963; telephone number (302) 422-8152; Fax: (302) 422-2435; e-mail address: Grier Stayton at aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to:

Those persons who are or may be required to conduct testing of chemical substances under the Federal Food, Drug and Cosmetic Act (FFDCA), or the Federal Insecticide, Fungicide, and Rodenticide Act (FIFRA) and those who sell, distribute or use pesticides, as well as any Non Government Organization.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get copies of this document and other related information?

EPA has established a docket for this action under docket ID number EPA-HQ-OPP-2011-0001. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Tentative Agenda Topics

1. Implementing and communicating major pesticide regulatory changes—Panel discussion.

2. SFIREG needs for worker safety education.

3. Aluminum phosphide label issues for burrowing rodent control.

4. Revisiting issues with total release disinfectant foggers.

5. Revisiting supplemental label issues and the issue paper.

6. Regulatory issues with supplemental distributor labels.

7. Web-distributed labeling: Review of user acceptance pilot survey results and formulating next steps.

8. Aminopyralid carryover concerns in compost.

9. Distinct labeling project.

10. Distinct labeling project.

11. What's up with drift labeling?

12. Revisions to the FIFRA Inspectors Manual.

13. Data management from state inspections.

14. EPA plans for high yield enforcement actions.

15. Implementation of soil fumigant label changes.

III. How can I request to participate in this meeting?

This meeting is open for the public to attend. You may attend the meeting without further notification.

List of Subjects

Environmental protection.

Dated: April 12, 2011.
Robert McNally,
Acting Director, Field External Affairs Division, Office of Pesticide Programs.

[FR Doc. 2011-9449 Filed 4-18-11; 8:45 am]

BILLING CODE 6560-50-P